DEPARTMENT OF LABOR

Employment and Training Administration

Agency Information Collection for the Employment and Training Administration Quick Turnaround Surveys; Comment Request

ACTION: Notice.

SUMMARY: The Department of Labor's (DOL) Employment and Training Administration (ETA) is soliciting comments concerning a revision of a currently approved collection for the authority to conduct the information collection request (ICR) titled, “Employment and Training Administration Quick Turnaround Surveys and Site Visits.” This comment request is part of continuing Departmental efforts to reduce paperwork and respondent burden in accordance with the Paperwork Reduction Act of 1995 (PRA).

DATES: Consideration will be given to all written comments received by October 31, 2022.

ADDRESSES: A copy of this ICR with applicable supporting documentation, including a description of the likely respondents, proposed frequency of response, and estimated total burden, may be obtained free by contacting Charlotte Schifferes by telephone at (202) 693-3655 (this is not a toll-free number), TTY (202) 693-7755, (this is not a toll-free number) or by email at schifferes.charlotte@dol.gov.

Submit written comments about, or requests for a copy of, this ICR by mail or courier to the U.S. Department of Labor, Employment and Training Administration, Office of Policy Development and Research, Attention: Charlotte Schifferes, 200 Constitution Avenue NW, Room N-5641, Washington, DC 20210; by email: schifferes.charlotte@dol.gov; or by Fax (202) 693-2766.

FOR FURTHER INFORMATION CONTACT: Charlotte Schifferes by telephone at (202) 693-3655 (this is not a toll-free number) or by email at schifferes.charlotte@dol.gov.

SUPPLEMENTARY INFORMATION: DOL, as part of continuing efforts to reduce paperwork and respondent burden, conducts a pre-clearance consultation program to provide the general public and federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA is soliciting comments regarding a revision and extension of a currently approved generic information collection. The collection would allow for a quick review process by OMB of a series of 8 to 20 short surveys or site visit protocols relevant to the broad spectrum of programs administered by ETA, including those authorized by the Workforce Innovation and Opportunity Act (WIOA) of 2014 and other statutes. The surveys and interviews would cover a variety of issues, including but not limited to governance, administration, funding, service design and delivery, and participant experiences. Each survey and site visit protocol would be short (typically 10-30 questions for different groups of respondents). Depending on the purpose for collecting the information, these may be conducted with state workforce agencies, local workforce development boards, American Job Centers, partner programs, other entities involved in activities relevant to ETA, and customers of the workforce system and related programs. Each survey instrument and site visit protocol will be designed on an ad hoc basis and will focus on topics of pressing policy or research interest. Examples of broad topic areas include but are not limited to:

• State and local management information systems,

• New processes and procedures,

• Services to, and their effectiveness with, different target groups,

• Integration and coordination with other programs, and

• Local workforce investment board membership and training.

ETA is seeking an extension and revision of the current collection to be able to obtain quick approval to conduct surveys and site visits so that it can collect and analyze, on a timely basis, information on various programs, practices, or problems, and to meet its obligations to develop high quality policy, research, administrative guidance, regulations, and technical assistance. ETA will request information in these surveys and site visits that is not otherwise available. Other research and evaluation efforts, including long-range evaluations, take many years for data to be gathered and analyzed. Administrative information, including quarterly or annual data reported by states and local areas, do not provide sufficient information on key operational practices, staff, or participant perspectives, and new or rapidly emerging issues. ETA will make every effort to coordinate the “quick turnaround” surveys and site visits with other data collections in ETA or other parts of the Department of Labor, in order to ease the burden on local, state, and other respondents, to avoid duplication, and to fully explore how data and information from each study can be used to inform other studies. Information from the quick turnaround surveys will thus complement but not duplicate other ETA reporting requirements or evaluation studies.

Section 169 of WIOA, Public Law 113-128, authorizes this information collection for both evaluations (section 169(a)) and research activities (section 169(b)).

This information collection is subject to the PRA. A federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control No. 1205-0436.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Employment and Training Administration Quick Turnaround Surveys.

Form: Not Applicable.

OMB Control Number: 1205-0436.

Affected Public: State, Local, and Tribal Governments; Private Sector businesses or other for-profit and not-for profit institutions; customers of the workforce system and other programs.

Estimated Number of Respondents: 7,000.

Frequency: Various.

Total Estimated Annual Responses: 2,333.

Estimated Average Time per Response: Varies.

Estimated Total Annual Burden Hours: 2,500 hours.

Total Estimated Annual Other Cost Burden: $0.

Authority: 44 U.S.C. 3506(c)(2)(A).

Brent Parton,
Acting Assistant Secretary for Employment and Training, Labor.

[FR Doc. 2022-18619 Filed 8-29-22; 8:45 am]

BILLING CODE 4510-FM-P